DEPARTMENT OF TRANSPORTATION

Federal Aviation Administration

14 CFR Part 39

[Docket No. FAA-2006-25610; Directorate Identifier 2005-NM-260-AD; Amendment 39-14727; AD 2006-17-06]

RIN 2120-AA64

Airworthiness Directives; Aerospatiale Model ATR42-500 Airplanes and Model ATR72-212A Airplanes

AGENCY: Federal Aviation Administration (FAA), Department of Transportation (DOT).

ACTION: Final rule; request for comments.

SUMMARY: The FAA is superseding an existing airworthiness directive (AD), which applies to certain Aerospatiale Model ATR42-500 and ATR72-212A series airplanes, that requires repetitive inspections for cracking of the upper closing rib of the vertical fin, related investigative actions, and corrective actions if necessary. This new AD requires modifying the installation of the vertical leading edge fairing at the fin tip, which ends the repetitive inspections. This AD results from a report that rudder operation difficulties occurred on a Model ATR42-500 series airplane while the airplane was on the ground. We are issuing this AD to prevent interference between the upper closing rib and the rudder, which could result in a rudder jam and consequent reduced controllability of the airplane.

DATES: This AD becomes effective September 5, 2006.

The Director of the Federal Register approved the incorporation by reference of certain publications listed in the AD as of September 5, 2006.

On July 22, 2004 (69 FR 33834, June 17, 2004), the Director of the Federal Register approved the incorporation by reference of certain other publications listed in the AD.

We must receive comments on this AD by October 20, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Aerospatiale, 316 Route de Bayonne, 31060 Toulouse, Cedex 03, France, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

On June 7, 2004, we issued AD 2004-12-13, amendment 39-13672 (69 FR 33834, June 17, 2004), for certain Aerospatiale Model ATR42-500 and ATR72-212A series airplanes. That AD requires repetitive inspections for cracking of the upper closing rib of the vertical fin, related investigative actions, and corrective actions if necessary. That AD resulted from a report that rudder operation difficulties occurred on a Model ATR42-500 series airplane while the airplane was on the ground. We issued that AD to prevent interference between the upper closing rib and the rudder, which could result in a rudder jam and consequent reduced controllability of the airplane.

Actions Since Existing AD Was Issued

Since we issued AD 2004-12-13, the Direction Gonorale de l'Aviation Civile (DGAC), which is the airworthiness authority for France, notified us that the manufacturer developed a terminating modification for the repetitive inspections of the existing AD.

Relevant Service Information

Avions de Transport Regional has issued Service Bulletin ATR42-55-0012, Revision 2, including Accomplishment Report, dated June 28, 2005 (for Model ATR42-500 airplanes); and ATR72-55-1004, Revision 3, including Accomplishment Report, dated September 23, 2005 (for Model ATR72-212 airplanes). The service bulletins describe procedures for modifying the installation of the vertical leading edge fairing at the fin tip. The modification includes doing a detailed inspection for cracking, misplacement, or deformation of the upper closing rib of the vertical fin.

Accomplishing the actions specified in the service information is intended to adequately address the unsafe condition. The DGAC mandated the service information and issued French airworthiness directive F-2005-059, dated April 13, 2005, to ensure the continued airworthiness of these airplanes in France.

Avions de Transport Regional Service Bulletin ATR42-55-0012 refers to Avions de Transport Regional Service Bulletin ATR42-55-0011, dated September 26, 2002 (for Model ATR42-500 airplanes), as the appropriate source of service information for doing the detailed inspection. Avions de Transport Regional Service Bulletin ATR72-55-1004 refers to Avions de Transport Regional Service Bulletin ATR72-55-1003, Revision 1, dated November 13, 2002 (for Model ATR72-212 airplanes), as the appropriate source of service information for doing the detailed inspection.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent interference between the upper closing rib and the rudder, which could result in a rudder jam and consequent reduced controllability of the airplane. This AD supersedes AD 2004-12-13 and retains the requirements of the existing AD. This AD also requires modifying the installation of the vertical leading edge fairing at the fin tip, which terminates the repetitive inspection requirements of the existing AD.

Change to Existing AD

This AD retains all requirements of AD 2004-12-13. Since AD 2004-12-13 was issued, the AD format has been revised, and certain paragraphs have been rearranged. As a result, the corresponding paragraph identifiers have changed in this AD, as listed in the following table:

Revised Paragraph Identifiers
Requirement in AD 2004-12-13 | Corresponding requirement in this AD
Paragraph (a) | Paragraph (f).
Paragraph (b) | Paragraph (g).
Paragraph (c) | Paragraph (h).
Paragraph (d) | Paragraph (i).

Explanation of Change to Applicability

We have revised the applicability of the existing AD to identify model designations as published in the most recent type certificate data sheet for the affected models.

Explanation of Change Made to Requirements of Existing AD

Paragraph (d) of the existing AD specifies making repairs using a method approved by either the FAA or the Direction Générale de l'Aviation Civile (or its delegated agent). The European Aviation Safety Agency (EASA) has assumed responsibility for the airplane models that are subject to this AD. Therefore, we have revised paragraph (i) of this AD to specify making repairs using a method approved by either the FAA or the EASA (or its delegated agent).

Clarification of Detailed Inspection Definition

For clarification, we have revised the definition of a “detailed inspection” in this AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the currently required inspections will take approximately 2 work hours per airplane to accomplish, at an average labor rate of $80 per work hour. Based on these figures, the currently required inspections of this AD on U.S. operators are estimated to be $160 per airplane.

If an affected airplane is imported and placed on the U.S. Register in the future, the required modification of this new AD will take between 16 and 40 work hours per airplane to accomplish, at an average labor rate of $80 per work hour. The required parts will cost between approximately $1,700 and $9,260. Based on these figures, the required modification of this AD on U.S. operators is estimated to be between $2,980 and $12,460 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-25610; Directorate Identifier 2005-NM-260-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13672 (69 FR 33834, June 17, 2004) and adding the following new airworthiness directive (AD):

2006-17-06 Aerospatiale: Amendment 39-14727. Docket No. FAA-2006-25610; Directorate Identifier 2005-NM-260-AD.

Effective Date

(a) This AD becomes effective September 5, 2006.

Affected ADs

(b) This AD supersedes AD 2004-12-13.

Applicability

(c) This AD applies to Aerospatiale Model ATR42-500 airplanes and Model ATR72-212A airplanes, certificated in any category; on which Aerospatiale Modification 4440 has been accomplished; except those Model ATR42-500 airplanes having serial numbers (S/Ns) 618 and subsequent; and except those Model ATR72-212A airplanes having S/Ns 682, 683, 684, 687, and 694 and subsequent.

Unsafe Condition

(d) This AD results from a report that rudder operation difficulties occurred on a Model ATR42-500 series airplane while the airplane was on the ground. We are issuing this AD to prevent interference between the upper closing rib and the rudder, which could result in a rudder jam and consequent reduced controllability of the airplane.

Compliance

(e) You are responsible for having the actions required by this AD performed within the compliance times specified, unless the actions have already been done.

Restatement of Requirments of AD 2004-12-13

Service Bulletin References for Paragraphs (g), (h), and (i) of This AD

(f) The term “service bulletin,” as used in paragraphs (g), (h), and (i) of this AD, means the Accomplishment Instructions of Avions de Transport Regional Service Bulletin ATR42-55-0011, excluding the Accomplishment Report, dated September 26, 2002 (for Model ATR42-500 series airplanes); and Avions de Transport Regional Service Bulletin ATR72-55-1003, Revision 1, excluding the Accomplishment Report, dated November 13, 2002 (for Model ATR72-212A series airplanes); as applicable.

(1) For Model ATR72-212A series airplanes: Actions accomplished before the effective date of this AD per Avions de Transport Regional Service Bulletin ATR72-55-1003, dated October 11, 2002, are acceptable for compliance with the corresponding actions required by this AD.

(2) Where the service bulletins specify to report inspection results to the manufacturer, this AD does not require such reporting.

Repetitive Inspections

(g) Within 500 flight hours after July 22, 2004 (the effective date of AD 2004-12-13): Perform a detailed inspection for cracking of the upper closing rib of the vertical fin, per the Accomplishment Instructions of the applicable service bulletin. Repeat this inspection thereafter at intervals not to exceed 500 flight hours until the modification required by paragraph (j) of this AD is accomplished.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

One-time Follow-on Inspections

(h) Before further flight following the initial detailed inspection for cracking required by paragraph (g) of this AD, measure the planarity of the upper closing rib and measure the gap between the rudder horn and the upper closing rib of the vertical fin; per paragraphs 2.C.(2) and 2.C.(3) of the Accomplishment Instructions of the applicable service bulletin.

Repair

(i) If any crack is found during any inspection required by paragraph (g) of this AD; or if any wave, anomaly, or measurement is found that is outside the limits specified in the applicable service bulletin: Before further flight, do all applicable actions in and per paragraph 2.C.(4) of the applicable service bulletin; except, where the applicable service bulletin says to contact the manufacturer for an approved repair solution, repair per a method approved by either the Manager, International Branch, ANM-116, Transport Airplane Directorate, FAA; or the European Aviation Safety Agency (or its delegated agent).

New Requirements of This AD

Modification

(j) Within 4,000 flight hours or 36 months after the effective date of this AD, whichever occurs first: Modify the installation of the vertical leading edge fairing at the fin tip (including doing the detailed inspection for cracking, misplacement, or deformation of the upper closing rib of the vertical fin) by accomplishing all the actions specified in the Accomplishment Instructions of Avions de Transport Regional Service Bulletin ATR42-55-0012, Revision 2, dated June 28, 2005 (for Model ATR42-500 airplanes); or ATR72-55-1004, Revision 3, dated September 23, 2005 (for Model ATR72-212 airplanes); as applicable; except where the service bulletins specify to submit certain information to the manufacturer, this AD does not include that requirement. Accomplishment of this modification terminates the repetitive inspection requirement of paragraph (g) of this AD.

Note 2: Avions de Transport Regional Service Bulletin ATR42-55-0012 refers to Avions de Transport Regional Service Bulletin ATR42-55-0011, dated September 26, 2002 (for Model ATR42-500 airplanes), as the appropriate source of service information for doing the detailed inspection specified in paragraph (j) of this AD. Avions de Transport Regional Service Bulletin ATR72-55-1004 refers to Avions de Transport Regional Service Bulletin ATR72-55-1003, Revision 1, dated November 13, 2002 (for Model ATR72-212 airplanes), as the appropriate source of service information for doing the detailed inspection specified in paragraph (j) of this AD.

Modification According to Previous Issues of the Service Bulletins

(k) Modifying the installation of the vertical leading edge fairing at the fin tip is also acceptable for compliance with the requirements of paragraph (j) of this AD if done before the effective date of this AD in accordance with one of the following service bulletins:

Table 1.—Previous Issues of Service Bulletins
Avions de Transport Regional Service Bulletin | Revision level | Date
ATR42-55-0012 | Original | December 15, 2004.
ATR42-55-0012 | 1 | March 3, 2005.
ATR72-55-1004 | Original | December 15, 2004.
ATR72-55-1004 | 1 | March 3, 2005.
ATR72-55-1004 | 2 | June 28, 2005.

Alternative Methods of Compliance (AMOCs)

(l)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) French airworthiness directive F-2005-059, dated April 13, 2005, also addresses the subject of this AD.

Material Incorporated by Reference

(n) You must use the service bulletins listed in Table 2 of this AD, as applicable, to perform the actions that are required by this AD, unless the AD specifies otherwise.

Table 2.—Material Incorporated by Reference
Avions de Transport Regional Service Bulletin | Revision level | Date
ATR42-55-0011, excluding the Accomplishment Report | Original | September 26, 2002.
ATR42-55-0012, excluding the Accomplishment Report | 2 | June 28, 2005.
ATR72-55-1003, excluding the Accomplishment Report | 1 | November 13, 2002.
ATR72-55-1004, excluding the Accomplishment Report | 3 | September 23, 2005.

(1) The Director of the Federal Register approved the incorporation by reference of Avions de Transport Regional Service Bulletin ATR42-55-0012, Revision 2, excluding the Accomplishment Report, dated June 28, 2005; and Avions de Transport Regional Service Bulletin ATR72-55-1004, Revision 3, excluding the Accomplishment Report, dated September 23, 2005; in accordance with 5 U.S.C. 552(a) and 1 CFR part 51. Avions de Transport Regional Service Bulletin ATR42-55-0012, Revision 2, excluding the Accomplishment Report, dated June 28, 2005, includes the following effective pages:

Page Nos. | Revision level shown on page | Date shown on page
1, 3, 4, 7, 9, 12, 13, 15-17, 19, 24, 25, 27, 28, 31, 37, 38 | 2 | June 28, 2005.
2, 21, 39, 40 | 1 | March 3, 2005.
5, 6, 8, 10, 11, 14, 18, 20, 22, 23, 26, 29, 30, 32-36, 41-46 | Original | December 15, 2004.

Avions de Transport Regional Service Bulletin ATR72-55-1004, Revision 3, excluding the Accomplishment Report, dated September 23, 2005, includes the following effective pages:

Page Nos. | Revision level shown on page | Date shown on page
1, 4, 43, 44 | 3 | September 23, 2005.
2, 21, 39, 40 | 1 | March 3, 2005.
3, 7, 9, 12, 13, 15-17, 19, 24, 25, 27, 28, 31, 37, 38 | 2 | June 28, 2005.
5, 6, 8, 10, 11, 14, 18, 20, 22, 23, 26, 29, 30, 32-36, 41, 42, 45, 46 | Original | December 15, 2004.

(2) On July 22, 2004 (69 FR 33834, June 17, 2004), the Director of the Federal Register approved the incorporation by reference of Avions de Transport Regional Service Bulletin ATR42-55-0011, excluding the Accomplishment Report, dated September 26, 2002; and Avions de Transport Regional Service Bulletin ATR72-55-1003, Revision 1, excluding the Accomplishment Report, dated November 13, 2002.

(3) Contact Aerospatiale, 316 Route de Bayonne, 31060 Toulouse, Cedex 03, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 9, 2006.
Ali Bahrami,
Manager, Transport Airplane Directorate, Aircraft Certification Service.

[FR Doc. E6-13651 Filed 8-18-06; 8:45 am]

BILLING CODE 4910-13-P